DEPARTMENT OF HOUSING AND URBAN DEVELOPMENT

[Docket No. FR-5039-N-03]

Notice of Proposed Information Collection: Comment Request; Affirmative Fair Housing Marketing (AFHM) Plan

AGENCY: Office of the Assistant Secretary for Fair Housing and Equal Opportunity, HUD.

ACTION: Notice.

SUMMARY: The proposed information collection requirement described below will be submitted to the Office of Management and Budget (OMB) for review, as required by the Paperwork Reduction Act of 1995. The Department is soliciting public comments on the subject proposal.

DATES: Comments Due Date: September 29, 2006.

ADDRESSES: Interested persons are invited to submit comments regarding this proposed information collection requirement. Comments should refer to the proposal by name and/or OMB Control Number and should be sent to: Surrell Silverman, Reports Liaison Officer, Fair Housing and Equal Opportunity, Department of Housing and Urban Development, 451 7th Street, SW., Room 5216, Washington, DC 20410-2000.

FOR FURTHER INFORMATION CONTACT: Shaye Hardy, Program Standards and Compliance Division, Office of Programs, Department of Housing and Urban Development, 451 7th Street, SW., Room 5222, Washington, DC 20410-2000; telephone: (202) 708-2288 (this is not a toll-free number) for copies of the proposed forms and other available documents. Hearing- or speech-impaired individuals may access this number TTY by calling the toll-free Federal Information Relay Service at 1-800-877-8339.

SUPPLEMENTARY INFORMATION: The Department is submitting the proposed information collection to OMB for review, as required by the Paperwork Reduction Act of 1995.

The notice solicits comments from members of the public and affected agencies concerning the proposed information collection in order to: (1) Evaluate whether the proposed information collection is necessary for the proper performance of the Department's program functions; (2) Evaluate the accuracy of the Department's assessment of the paperwork burden that may result from the proposed information collection; (3) Enhance the quality, utility, and clarity of the information which must be collected; and (4) Minimize the burden of the information collection on responders, including the use of appropriate automated collection techniques or other forms of information technology (e.g., electronic transmission of data).

Title of Regulation: Affirmative Fair Housing Marketing Regulations and Affirmative Fair Housing Marketing Compliance Regulations.

OMB Control Number, if applicable; 2529-0013.

Description of the need for the information and proposed use: HUD uses this information to assess the adequacy of the applicant's proposed actions to carry out the Affirmative Fair Housing Marketing requirements of 24 CFR 200.600 and review compliance with these requirements under 24 CFR part 108, the AFHM Compliance Regulations.

Agency form numbers, if applicable: HUD-935.2A Affirmative Fair Housing Marketing Plan (Multifamily) and HUD-935.2B Affirmative Fair Housing Marketing Plan (Single-Family).

Members of affected public: Applicants for mortgage insurance under the Department's insured single-family and multifamily subsidized and unsubsidized programs.

Estimation of the total numbers of hours needed to prepare the information, collection including number of respondents, frequency of response, and hours of response: On an annual basis, there are approximately 6,530 respondents, 1 response per respondent, which equals 6,530 total responses for both forms. Each new respondent (300 multifamily + 30 single-family = 330 new respondents annually) should take approximately 3 hours to complete, which equals approximately 990 hours for new respondents annually. HUD has approximately 31,000 multifamily housing insured and subsidized projects in its inventory. Since multifamily housing projects' Affirmative Fair Housing Marketing Plans (Multifamily) (HUD 935.2A) should be reviewed and updated every 5 years, it is estimated that 20 percent of the multifamily housing project inventory (6,200) will review their plans each year. This review will take approximately 1 hour to complete, which equals 6,200 hours for the review of these plans annually. It is also estimated that slightly less than 20 percent of the reviewed plans (approximately 1,200) will need to be updated. The updating of these plans will take approximately 1 hour to complete, which equals approximately 1,200 hours for the updating of these plans annually. The total estimated number of hours needed to prepare this information collection is 8,390 hours.

Status of the proposed information collection: HUD revised Form HUD-935.2 Affirmative Fair Housing Plan. This revision consists of creating a form to be used by Multifamily Housing (MFH) and a second form to be used by Single-Family Housing (SFH). This action was taken to make the completion of the form clearer for the MFH and SFH user. The current form has several instances where there are alternative directions. The major difference in the proposed form is that the Office of Fair Housing and Equal Opportunity will have approval authority for the Form HUD-935.2A to be completed by MFH users and the Office of Housing-Single-Family Housing will have approval authority for the Form HUD-935.2B to be completed by SFH users.

Authority: Section 3506 of the Paperwork Reduction Act of 1995, 44 U.S.C. Chapter 35, as amended.

Dated: July 24, 2006.
Kim Kendrick,
Assistant Secretary for Fair Housing and Equal Opportunity.

[FR Doc. 06-6562 Filed 7-28-06; 8:45 am]

BILLING CODE 4210-67-M